DEPARTMENT OF ENERGY

Federal Energy Regulatory Commission

Combined Notice of Filings #1

Take notice that the Commission received the following electric rate filings:

Docket Numbers: ER18-1737-002.

Applicants: Midcontinent Independent System Operator, Inc.

Description: Midcontinent Independent System Operator, Inc. submits tariff filing per 35.19a(b): Refund Report_NIPSO Reactive Power to be effective N/A.

Filed Date: 10/9/19.

Accession Number: 20191009-5157.

Comments Due: 5 p.m. ET 10/30/19.

Docket Numbers: ER19-2065-002.

Applicants: Midcontinent Independent System Operator, Inc., Ameren Illinois Company.

Description: Report Filing: 2019-10-09_SA 2026 Ameren-Hannibal Second Substitute 2nd Rev WDS Refund Report to be effective N/A.

Filed Date: 10/9/19.

Accession Number: 20191009-5133.

Comments Due: 5 p.m. ET 10/30/19.

Docket Numbers: ER20-57-000.

Applicants: GA Solar 3, LLC.

Description: Baseline eTariff Filing: Application For Market Based Rate to be effective 10/26/2019.

Filed Date: 10/9/19.

Accession Number: 20191009-5001.

Comments Due: 5 p.m. ET 10/30/19.

Docket Numbers: ER20-58-000.

Applicants: FL Solar 4, LLC.

Description: Baseline eTariff Filing: Application For Market Based Rate to be effective 11/4/2019.

Filed Date: 10/9/19.

Accession Number: 20191009-5002.

Comments Due: 5 p.m. ET 10/30/19.

Docket Numbers: ER20-59-000.

Applicants: AZ Solar 1, LLC.

Description: Baseline eTariff Filing: Application For Market Based Rate to be effective 12/2/2019.

Filed Date: 10/9/19.

Accession Number: 20191009-5005.

Comments Due: 5 p.m. ET 10/30/19.

Docket Numbers: ER20-60-000.

Applicants: PJM Interconnection, L.L.C.

Description: Tariff Cancellation: Notice of Cancellation of WMPA/SA No. 5094, Queue No. AD1-048 to be effective 11/4/2019.

Filed Date: 10/9/19.

Accession Number: 20191009-5056.

Comments Due: 5 p.m. ET 10/30/19.

Docket Numbers: ER20-61-000.

Applicants: Citizens Sunrise Transmission LLC.

Description: § 205(d) Rate Filing: Annual TRBAA Filing October 2019 to be effective 1/1/2020.

Filed Date: 10/9/19.

Accession Number: 20191009-5078.

Comments Due: 5 p.m. ET 10/30/19.

Docket Numbers: ER20-62-000.

Applicants: Rochester Gas and Electric Corporation, New York Independent System Operator, Inc.

Description: § 205(d) Rate Filing: Section 205 Amended and Restated IA RGE and RED SA. No 2484 to be effective 9/16/2019.

Filed Date: 10/9/19.

Accession Number: 20191009-5086.

Comments Due: 5 p.m. ET 10/30/19.

Docket Numbers: ER20-63-000.

Applicants: Emmons-Logan Wind Interconnection, LLC.

Description: Baseline eTariff Filing: TSA between Emmons-Logan Interconnection and Emmons-Logan Wind to be effective 12/6/2019.

Filed Date: 10/9/19.

Accession Number: 20191009-5115.

Comments Due: 5 p.m. ET 10/30/19.

Docket Numbers: ER20-64-000.

Applicants: PGR Lessee L, LLC.

Description: Baseline eTariff Filing: PGR Lessee L MBR Application to be effective 10/9/2019.

Filed Date: 10/9/19.

Accession Number: 20191009-5118.

Comments Due: 5 p.m. ET 10/30/19.

Docket Numbers: ER20-65-000.

Applicants: TWE Bowman Solar Project, LLC.

Description: Baseline eTariff Filing: TWE Bowman MBR Application to be effective 10/9/2019.

Filed Date: 10/9/19.

Accession Number: 20191009-5120.

Comments Due: 5 p.m. ET 10/30/19.

Take notice that the Commission received the following qualifying facility filings:

Docket Numbers: QF20-29-000.

Applicants: Eco Green Generation LLC.

Description: Form 556 of Eco Green Generation LLC [Clean Power #3].

Filed Date: 10/9/19.

Accession Number: 20191009-5035.

Comments Due: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 9, 2019.
Nathaniel J. Davis, Sr.,
Deputy Secretary.

[FR Doc. 2019-22519 Filed 10-15-19; 8:45 am]

BILLING CODE 6717-01-P